POSTAL REGULATORY COMMISSION

Sunshine Act Meetings

TIME AND DATE: Wednesday, September 14, 2011, at 11 a.m.

PLACE: Commission hearing room, 901 New York Avenue, NW., Suite 200, Washington, DC 20268-0001.

STATUS: Part of this meeting will be open to the public. The rest of the meeting will be closed to the public. The open part of the meeting will be audiocast. The audiocast can be accessed via the Commission's Web site at http://www.prc.gov.

MATTERS TO BE CONSIDERED: The agenda for the Commission's September 2011 meeting includes the items identified below.

Portions Open to the Public

1. Synopsis of the legislative review completed pursuant to section 701 of the Postal Accountability and Enhancement Act.

2. Review of postal-related Congressional activity.

3. Report on Post Office appeals filed with the Commission.

4. Report on status of pending dockets.

5. Report on international activity.

6. Report on the status of the Joint Periodicals Task Force report.

7. Report on studies to quantify the social value of the postal system.

8. Report on the status of the Docket Section modernization project.

9. Discussion and approval of the FY2012 budget.

Portion Closed to the Public

10. Discussion of contractual matters involving sensitive business information—lease issues.

CONTACT PERSON FOR MORE INFORMATION: Stephen L. Sharfman, General Counsel, Postal Regulatory Commission, 901 New York Avenue, NW., Suite 200, Washington, DC 20268-0001, at 202-789-6820 (for agenda-related inquiries) and Shoshana M. Grove, Secretary of the Commission, at 202-789-6800 or shoshana.grove@prc.gov (for inquiries related to meeting location, access for handicapped or disabled persons, the audiocast, or similar matters).

By the Commission.
Shoshana M. Grove,
Secretary.

[FR Doc. 2011-22718 Filed 8-31-11; 4:15 pm]

BILLING CODE 7710-FW-P